DEPARTMENT OF THE INTERIOR

Fish and Wildlife Service

[FWS-R2-ES-2010-N097; 20124-1112-0000-F2]

San Rafael Cattle Company; Habitat Conservation Plan; Santa Cruz County, AZ

AGENCY: Fish and Wildlife Service, Interior.

ACTION: Notice of availability; Draft Low-Effect Habitat Conservation Plan in support of incidental take permit application.

SUMMARY: San Rafael Cattle Company (Applicant) has applied to the U.S. Fish and Wildlife Service (Service) for an incidental take permit (ITP) under the Endangered Species Act of 1973, as amended (Act). The Applicant has been assigned a permit number TE-12133A-0. If approved, the ITP would be in force for a period of 30 years, and would authorize incidental take of two species currently listed under the Endangered Species Act (Act), and two species that may become listed under the Act in the future (“covered species”). The proposed incidental take would occur in Santa Cruz County, Arizona, as a result of impacts on covered species and occupied habitat from specified actions conducted under the authority of the San Rafael Cattle Company. We invite public comment on the permit application and the associated documents.

DATES: To ensure consideration, we must receive any comments on or before July 22, 2010.

ADDRESSES: Persons wishing to review the application and/or the draft HCP may obtain a copy by written or telephone request to Steve Spangle, Field Supervisor, Arizona Ecological Services Field Office, 2321 West Royal Palm Road, Suite 103, Phoenix, AZ 85021-4951; telephone: 602-242-0210; fax: 602-242-2513. Electronic copies are also available on the Arizona Ecological Service Field Office Web site: http://www.fws.gov/arizonaes. All documents will be available for public inspection, by written request or by appointment only, during normal business hours (8 a.m. to 4:30 p.m.) at the above address. Data or comments concerning the application and draft HCP should be submitted in writing to the above address or by e-mail at: Cat_Crawford@fws.gov. Please refer to permit number TE-12133A-0 when submitting comments.

FOR FURTHER INFORMATION CONTACT: Cat Crawford, Arizona Ecological Services Field Office—Tucson Suboffice, 201 N. Bonita Avenue, Suite 141, Tucson, AZ 85745; telephone (520/670-6150; extension 232); or by e-mail (Cat_Crawford@fws.gov).

SUPPLEMENTARY INFORMATION: Under NEPA, we announce that we have gathered the information necessary to: (1) Determine the impacts related to the potential issuance of an ITP to the Applicant; and (2) approve the HCP, which provides measures to minimize and mitigate the effects of the proposed incidental take of federally listed species to the maximum extent practicable, pursuant to section 10(a)(1)(B) of the Act (16 U.S.C. 1531 et seq.)

If approved, the 30-year ITP would authorize the proposed incidental take of four covered species, including species currently listed under the Act, as well as species that may become listed under the Act in the future: Sonoran tiger salamander (Ambystoma mavortium stebbinsi), Gila chub (Gila intermedia); northern Mexican garter snake (Thamnophis eques megalops) and Huachuca springsnail (Pyrgulopsis thompsoni). The requested ITP also includes two listed plant species: Spiranthes delitescens (Canelo Hills ladies'-tresses) and Lileopsis schaffneriana ssp. recurva (Huachuca water umbel). Although take of listed plant species is not prohibited under the Act, and therefore cannot be authorized under an ITP, plant species may be included on an ITP in recognition of the conservation benefits provided to them under an HCP.

The proposed incidental take would occur as a result of ranch management activities occurring under the authority of the Applicant on non-Federal lands within 18,440 acres of the San Rafael Ranch in Santa Cruz County, Arizona. The Applicant has completed a draft HCP as part of the application package, as required by the Act. The application and associated documents provide measures to minimize and mitigate to the maximum extent practicable the effects of the proposed incidental take of covered species and effects to the habitats upon which they depend.

Approval of the proposed HCP and issuance of the ITP may be eligible for a categorical exclusion under NEPA (42 U.S.C. 4321 et seq.), as provided by Federal regulations (40 CFR 1500, 5(k), 1507.3(b)(2), 1508.4) and the Department of the Interior Manual (516 DM 2 and 516 DM 8). A categorical exclusion for a HCP is based on the following three criteria: (1) Implementation of the proposed plan would result in minor or negligible effects on federally-listed, proposed, and candidate species and their habitats; (2) implementation of the proposed HCP would result in minor or negligible effects on other environmental values or resources; and (3) impacts of the HCP, considered together with the impacts of other past, present, and reasonably foreseeable similarly situated projects, would not result, over time, in cumulative effects to environmental values or resources that would be considered significant. Based upon the preliminary determination made in our draft NEPA screening document, we believe this action is covered by a categorical exclusion. We will consider public comments when making the final determination on whether to prepare an additional NEPA document on the proposed action.

Background

Since purchasing the San Rafael Ranch in 2000, the San Rafael Cattle Company has been implementing grazing practices that have improved range and habitat conditions on private lands within the San Rafael Valley of Santa Cruz County, Arizona. These improved habitat conditions provide opportunities for conservation actions that may enhance the status and distribution of covered species on the San Rafael Ranch. The San Rafael Cattle Company would like to continue ranch management activities while working with agencies to conduct conservation actions on the San Rafael Ranch such as introduction of covered species or other species and removal of aquatic invasive species. The covered area would encompass 18,440 acres of primarily open rangeland owned by the applicant. The covered ranch management activities would consist of watering and grazing by cattle in stock tanks and riparian habitats, including herding of cattle within pastures and between pastures; maintenance of stock ponds, wells, waterlines, fences, roads, and utility lines supporting these facilities; and brush and invasive plant management to reduce shrub invasion of upland grasslands. All of these activities have short-term impacts on species and their habitats, and incidental take of some covered species may occur. However, a long-term benefit is anticipated for the watershed and habitats of the covered species. In addition, San Rafael Cattle Company proposes actions to minimize the impacts of the activities and assist in recovery of covered species. These actions are also proposed to be covered by the associated section 10(a)(1)(B) permit.

To meet the requirements of a section 10(a)(1)(B) permit, San Rafael Cattle Company has developed and will implement the San Rafael Ranch HCP, which provides measures to minimize and mitigate for incidental take of the four proposed covered animal species to the maximum extent practicable. The biological goal of the HCP is to provide long-term protection for multiple species of concern and key natural communities through maintenance or improvement of the habitat conditions and ecosystem functions necessary for their survival, and to ensure that any incidental take of listed species will not appreciably reduce the likelihood of the survival and recovery of those species in the wild.

Public Availability of Comments

Written comments we receive become part of the public record associated with this action. Before including your address, phone number, e-mail address, or other personal identifying information in your comment, you should be aware that the entire comment—including your personal identifying information—may be made publicly available at any time. While you can ask us in your comment to withhold your personal identifying information from public review, we cannot guarantee that we will be able to do so.

Authority

We provide this notice under section 10(c) of the Act (16 U.S.C. 1531 et seq.) and its implementing regulations (50 CFR 17.22) and NEPA (42 U.S.C. 4371 et seq.) and its implementing regulations (40 CFR 1506.6).

Benjamin N. Tuggle,
Regional Director, Region 2, Albuquerque, New Mexico.

[FR Doc. 2010-15057 Filed 6-21-10; 8:45 am]

BILLING CODE 4310-55-P